DEPARTMENT OF HEALTH AND HUMAN SERVICES

National Institutes of Health

National Institute of General Medical Sciences; Cancellation of Meeting

Notice is hereby given of a change in the meeting of the National Institute of General Medical Sciences, March 18, 2026, 9:30 a.m. to 4:30 p.m., National Institutes of Health, NIGMS, Natcher Building, 45 Center Drive, Bethesda, MD 20892 which was published in the Federal Register on December 29, 2025, FR Doc. 2025-23835, 90 FR 60733.

This meeting notice is to cancel the meeting scheduled for March 18, 2026. This meeting will not be rescheduled.

Dated: February 9, 2026.
David W. Freeman,
Supervisory Program Analyst, Office of Federal Advisory Committee Policy.

[FR Doc. 2026-02726 Filed 2-10-26; 8:45 am]

BILLING CODE 4140-01-P